DEPARTMENT OF HEALTH AND HUMAN SERVICES

Food and Drug Administration

[Docket No. FDA-2010-N-0601]

Agency Information Collection Activities; Submission for Office of Management and Budget Review; Comment Request; Current Good Manufacturing Practice Regulations for Medicated Feeds

AGENCY: Food and Drug Administration, Health and Human Services (HHS).

ACTION: Notice.

SUMMARY: The Food and Drug Administration (FDA) is announcing that a proposed collection of information has been submitted to the Office of Management and Budget (OMB) for review and clearance under the Paperwork Reduction Act of 1995.

DATES: Submit written comments (including recommendations) on the collection of information by August 10, 2020.

ADDRESSES: To ensure that comments on the information collection are received, OMB recommends that written comments be submitted to https://www.reginfo.gov/public/do/PRAMain. Find this particular information collection by selecting “Currently under Review—Open for Public Comments” or by using the search function. The OMB control number for this information collection is 0910-0152. Also include the FDA docket number found in brackets in the heading of this document.

FOR FURTHER INFORMATION CONTACT: Ila S. Mizrachi, Office of Operations, Food and Drug Administration, Three White Flint North, 10A-12M, 11601 Landsdown St. North Bethesda, MD 20852, 301-796-7726, PRAStaff@fda.hhs.gov.

SUPPLEMENTARY INFORMATION: In compliance with 44 U.S.C. 3507, FDA has submitted the following proposed collection of information to OMB for review and clearance.

Current Good Manufacturing Practice Regulations for Medicated Feeds—21 CFR part 225

OMB Control Number 0910-0152—Extension

Under section 501 of the Federal Food, Drug, and Cosmetic Act (FD&C Act) (21 U.S.C. 351), FDA has the statutory authority to issue current good manufacturing practice (cGMP) regulations for drugs, including medicated feeds. Medicated feeds are administered to animals for the prevention, cure, mitigation, or treatment of disease, or growth promotion and feed efficiency. Statutory requirements for cGMPs have been codified under part 225 (21 CFR part 225). Medicated feeds that are not manufactured in accordance with these regulations are considered adulterated under section 501(a)(2)(B) of the FD&C Act. Under part 225, a manufacturer is required to establish, maintain, and retain records for a medicated feed, including records to document procedures required during the manufacturing process to assure that proper quality control is maintained. Such records would, for example, contain information concerning receipt and inventory of drug components, batch production, laboratory assay results (i.e., batch and stability testing), labels, and product distribution.

This information is needed so that FDA can monitor drug usage and possible misformulation of medicated feeds to investigate violative drug residues in products from treated animals and to investigate product defects when a drug is recalled. In addition, FDA will use the cGMP criteria in part 225 to determine whether or not the systems and procedures used by manufacturers of medicated feeds are adequate to assure that their feeds meet the requirements of the FD&C Act as to safety, and also that they meet their claimed identity, strength, quality, and purity, as required by section 501(a)(2)(B) of the FD&C Act.

A license is required when the manufacturer of a medicated feed involves the use of a drug or drugs that FDA has determined requires more control because of the need for a withdrawal period before slaughter or because of carcinogenic concerns. Conversely, a license is not required, and the recordkeeping requirements are less demanding for those medicated feeds for which FDA has determined that the drugs used in their manufacture need less control. Respondents to this collection of information are commercial feed mills and mixer/feeders.

In the Federal Register of March 4, 2020 (85 FR 12790), we published a 60-day notice requesting public comment on the proposed collection of information. No comments were received.

FDA estimates the burden of this collection of information as follows:

Table 1—Estimated Annual Recordkeeping Burden (Registered Licensed Commercial Feed Mills) 1
21 CFR section | Number of recordkeepers | Number of records per recordkeeper | Total annual records | Average burden per recordkeeping | Total hours
225.42(b)(5) through (8) requires records of receipt, storage, and inventory control of medicated feeds | 825 | 260 | 214,500 | 1 | 214,500
225.58(c) and (d) requires records of the results of periodic assays for medicated feeds that are in accord with label specifications and also those medicated feeds not within documented permissible assay limits | 825 | 45 | 37,125 | 0.50 (30 minutes) | 18,562.50
225.80(b)(2) requires that verified medicated feed label(s) be kept for 1 year | 825 | 1,600 | 1,320,000 | 0.12 (7 minutes) | 158,400
225.102(b)(1) through (5), requires records of Master Record Files and production records for medicated feeds | 825 | 7,800 | 6,435,000 | 0.08 (5 minutes) | 514,800
225.110(b)(1) and (2) requires maintenance of distribution records for medicated feeds | 825 | 7,800 | 6,435,000 | 0.02 (1 minute) | 128,700
225.115(b)(1) and (2) requires maintenance of complaint files by the medicated feed manufacturer | 825 | 5 | 4,125 | 0.12 (7 minutes) | 495
Total |  |  |  |  | 1,035,457.50
¹ There are no capital costs or operating and maintenance costs associated with this collection of information.

Table 2—Estimated Annual Recordkeeping Burden (Registered Licensed Mixer/Feeders) 1
21 CFR section | Number of recordkeepers | Number of records per recordkeeper | Total annual records | Average burden per recordkeeping | Total hours
225.42(b)(5) through (8) requires records of receipt, storage, and inventory control of medicated feeds | 100 | 260 | 26,000 | 0.15 (9 minutes) | 3,900
225.58(c) and (d) requires records of the results of periodic assays for medicated feeds that are in accord with label specifications and also those medicated feeds not within documented permissible assay limits | 100 | 36 | 3,600 | 0.50 (30 minutes) | 1,800
225.80(b)(2) requires that verified medicated feed label(s) be kept for 1 year | 100 | 48 | 4,800 | 0.12 (7 minutes) | 576
225.102(b)(1) through (5) requires records of Master Record Files and production records for medicated feeds | 100 | 260 | 26,000 | 0.40 (24 minutes) | 10,400
Total |  |  |  |  | 16,676
¹ There are no capital costs or operating and maintenance costs associated with this collection of information.

Table 3—Estimated Annual Recordkeeping Burden (Nonregistered Unlicensed Commercial Feed Mills) 1
21 CFR section | Number of recordkeepers | Number of records per recordkeeper | Total annual records | Average burden per recordkeeping | Total hours
225.142 requires procedures for identification, storage, and inventory control (receipt and use) of Type A medicated articles and Type B medicated feeds | 4,186 | 4 | 16,744 | 1 | 16,744
225.158 requires records of investigation and corrective action when the results of laboratory assays of drug components indicate that the medicated feed is not in accord with the permissible assay limits | 4,186 | 1 | 4,186 | 4 | 16,744
225.180 requires identification, storage, and inventory control of labeling in a manner that prevents label mixups and assures that correct labels are used for medicated feeds | 4,186 | 96 | 401,856 | 0.12 (7 minutes) | 48,223
225.202 requires records of formulation, production, and distribution of medicated feeds | 4,186 | 260 | 1,088,360 | 0.65 (39 minutes) | 707,434
Total |  |  |  |  | 789,145
¹ There are no capital costs or operating and maintenance costs associated with this collection of information.

Table 4—Estimated Annual Recordkeeping Burden (Nonregistered Unlicensed Mixer/Feeders) 1
21 CFR section | Number of recordkeepers | Number of records per recordkeeper | Total annual records | Average burden per recordkeeper | Total hours
225.142 requires procedures for identification, storage, and inventory control (receipt and use) of Type A medicated articles and Type B medicated feeds | 3,400 | 4 | 13,600 | 1 | 13,600
225.158 requires records of investigation and corrective action when the results of laboratory assays of drug components indicate that the medicated feed is not in accord with the permissible assay limits | 3,400 | 1 | 3,400 | 4 | 13,600
225.180 requires identification, storage, and inventory control of labeling in a manner that prevents label mixups and assures that correct labels are used for medicated feeds | 3,400 | 32 | 108,800 | 0.12 (7 minutes) | 13,056
225.202 requires records of formulation, production, and distribution of medicated feeds | 3,400 | 260 | 884,000 | 0.33 (20 minutes) | 291,720
Total |  |  |  |  | 331,976
¹ There are no capital costs or operating and maintenance costs associated with this collection of information.

Our estimated burden for the information collection reflects a decrease of 65,265.20 hours. We attribute this adjustment to a decrease in the number of respondents for Registered Licensed Commercial Feed Mills. Medicated Feed Mill licensing is voluntary. Firms may withdraw if they go out of business or if they change the source of the drug and a license is not required.

Dated: July 2, 2020.
Lowell J. Schiller,
Principal Associate Commissioner for Policy.

[FR Doc. 2020-14797 Filed 7-9-20; 8:45 am]

BILLING CODE 4164-01-P